DEPARTMENT OF THE INTERIOR

National Park Service

[NPS-WASO-NRNHL-DTS#-32137; PPWOCRADI0, PCU00RP14.R50000]

National Register of Historic Places; Notification of Pending Nominations and Related Actions

AGENCY: National Park Service, Interior.

ACTION: Notice.

SUMMARY: The National Park Service is soliciting electronic comments on the significance of properties nominated before June 5, 2021, for listing or related actions in the National Register of Historic Places.

DATES: Comments should be submitted electronically by July 2, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 5, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Point Fermin Historic District, (Light Stations of California MPS), 807 West Paseo Del Mar, 3601 Gaffey St., San Pedro, MP100006727

Nevada County

Truckee Veterans Memorial Building, 10214 High St., Truckee, SG100006720

Tuolumne County

Sierra Railway Shops Historic District, 18115 5th Ave., Jamestown, SG100006719

LOUISIANA

Avoyelles Parish

St. Anthony of Padua Catholic Church, 209 South Holly St., Bunkie, SG100006721

Orleans Parish

Houses at 3014-3038 Leonidas Street, 3014-3038 Leonidas St., New Orleans, SG100006724

St. Tammany Parish

Teddy Avenue Residential Historic District 169, 190-604 Teddy Ave., 1737, 1742 4th St., Slidell, SG100006725

SOUTH DAKOTA

Clay County

First Congregational Church, Vermillion, 226 East Main St., Vermillion, SG100006723

TEXAS

Bexar County

Aurora Apartment Hotel, 509 Howard St., San Antonio, SG100006722

Additional documentation has been received for the following resources:

KENTUCKY

Jefferson County

St. James-Belgravia Historic District (Additional Documentation), Roughly bounded by Central Park, South 4th, South 6th, and Hill Sts., Louisville, AD72000538

Old Louisville Residential District (Additional Documentation), Irregular pattern roughly bounded by South 7th St., North-South Expwy., Kentucky St., and Avery St., Louisville, AD75000772

Nomination submitted by Federal Preservation Officer:

The State Historic Preservation Officer reviewed the following nomination and responded to the Federal Preservation Officer within 45 days of receipt of the nomination and supports listing the property in the National Register of Historic Places.

ARKANSAS

Newton County

Henderson, Frank and Eva Barnes “Granny,” Farm, Southwest of Hemmed In Hollow, approx. 1/10 mi. west of Buffalo R. just south of Sneeds Cr., Compton vicinity, SG100006726

Authority: Section 60.13 of 36 CFR part 60

Dated: June 8, 2021.
Sherry A. Frear,
Chief, National Register of Historic Places/National Historic Landmarks Program.

[FR Doc. 2021-12837 Filed 6-16-21; 8:45 am]

BILLING CODE 4312-52-P